DEPARTMENT OF TRANSPORTATION

National Highway Traffic Safety Administration

[Docket No. NHTSA-2019-0105]

Denial of Motor Vehicle Defect Petition, DP19-004

AGENCY: National Highway Traffic Safety Administration (NHTSA), Department of Transportation.

ACTION: Denial of petition for a defect investigation.

SUMMARY: On September 19, 2019, Mr. Roger Hogan (the petitioner) submitted a defect petition to NHTSA's Office of Defects Investigation (ODI). The petition requested that the Agency investigate and recall certain Toyota Prius, Prius PHV, Camry Hybrid and Avalon Hybrid vehicles for a brake actuator solenoid valve wear condition that is currently covered under Toyota Customer Support Programs (CSPs) ZJB and ZKK (subject CSPs). NHTSA opened Defect Petition DP19-004 to evaluate the petitioner's request. Subsequently the petitioner informed NHTSA that he was withdrawing the petition. Since the petitioner has withdrawn the petition, we are denying the petition as moot.

FOR FURTHER INFORMATION CONTACT: Mr. Kareem Habib, Vehicle Defects Division—D, Office of Defects Investigation, NHTSA, 1200 New Jersey Ave. SE, Washington, DC 20590 (telephone 202-366-8703).

SUPPLEMENTARY INFORMATION: By letter dated September 19, 2019, Mr. Roger Hogan (the petitioner) submitted a petition requesting that the Agency investigate and recall certain Toyota Prius, Prius PHV, Camry Hybrid and Avalon Hybrid vehicles for a brake actuator solenoid valve wear condition that is currently covered under Toyota Customer Support Programs ZJB and ZKK (subject CSPs). Interested persons may petition NHTSA requesting that the agency initiate an investigation to determine whether a motor vehicle or item of replacement equipment does not comply with an applicable motor vehicle safety standard or contains a defect that relates to motor vehicle safety (49 U.S.C. 30162(a)(2); 49 CFR 552.1). Upon receipt of a properly filed petition, the Agency conducts a technical review of the petition, material submitted with the petition and any additional information (49 CFR 552.6). After conducting the technical review and considering appropriate factors, which may include, but are not limited to, the nature of the complaint, allocation of Agency resources, Agency priorities, the likelihood of uncovering sufficient evidence to establish the existence of a defect, and the likelihood of success in any necessary enforcement litigation, the Agency will grant or deny the petition. See 49 CFR 552.8.

The petition alleged that Toyota conducted safety recalls D0H and K0L (NHTSA recalls 13V-235 and 19V-544) to remedy safety defects in the same component covered by the subject CSPs and that Toyota should also recall the subject vehicles. In support, the petition identified 117 NHTSA complaints (subject complaints) allegedly related to the subject CSP condition, including 60 reported crashes.¹

¹ Because the petition is moot, ODI has not confirmed that the complaints identified in the petition relate to the CSP condition as alleged by the petitioner.

On September 30, 2019, ODI opened Defect Petition DP19-004 to evaluate the petitioner's request for an investigation. The petitioner subsequently notified the Agency that he was withdrawing his petition. Because the petitioner has withdrawn the petition, we are denying the petition as moot.

NHTSA is authorized to issue an order requiring notification and remedy of a defect if the Agency's investigation shows a defect in the design, construction, or performance of a motor vehicle that presents an unreasonable risk to safety. 49 U.S.C. 30102(a)(9), 30118. Because the petitioner has with withdrawn the petition, the petition is denied as moot. This action does not constitute a finding by NHTSA that a safety-related defect does not exist. The Agency notes that it is not required to receive a defect petition prior to opening a defect investigation and will take further action if warranted by future circumstances.

Authority: 49 U.S.C. 30162(d); delegations of authority at CFR 1.50 and 501.8.

Joseph Kolly,
Acting, Associate Administrator for Enforcement.

[FR Doc. 2021-16927 Filed 8-6-21; 8:45 am]

BILLING CODE 4910-59-P